DEPARTMENT OF COMMERCE

National Oceanic and Atmospheric Administration

50 CFR Part 622

[Docket No. 180720681-8999-02; RTID 0648-XD155]

Fisheries of the Caribbean, Gulf of Mexico, and South Atlantic; 2023 Recreational Closure for Golden Tilefish in the South Atlantic

AGENCY: National Marine Fisheries Service (NMFS), National Oceanic and Atmospheric Administration (NOAA), Commerce.

ACTION: Temporary rule; closure.

SUMMARY: NMFS implements an accountability measure (AM) for the recreational harvest of golden tilefish in the exclusive economic zone (EEZ) of the South Atlantic. NMFS estimates that recreational landings of golden tilefish have reached the recreational annual catch limit (ACL) for the 2023 fishing year. Accordingly, NMFS closes the recreational sector for the harvest of golden tilefish in the South Atlantic EEZ on July 17, 2023. This closure is necessary to protect the golden tilefish resource.

DATES: This temporary rule is effective from 12:01 a.m. eastern time on July 17, 2023, through December 31, 2023.

FOR FURTHER INFORMATION CONTACT: Mary Vara, NMFS Southeast Regional Office, telephone: 727-824-5305, email: mary.vara@noaa.gov.

SUPPLEMENTARY INFORMATION: The snapper-grouper fishery of the South Atlantic includes golden tilefish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

Regulations at 50 CFR 622.193(a)(2) specify the recreational ACL for golden tilefish of 2,316 fish, as well as the recreational AMs if landings reach or exceed the ACL. The in-season recreational AM states that if recreational landings reach or are projected to reach the recreational ACL, then the recreational sector will be closed for the remainder of the fishing year (50 CFR 622.193(a)(2)(i)).

Recreational landings data from the NMFS Southeast Fisheries Science Center indicate that the golden tilefish recreational ACL for 2023 has been reached. Therefore, this temporary rule implements the AM to close the golden tilefish recreational sector for the remainder of the 2023 fishing year. As a result, the recreational sector for golden tilefish in the South Atlantic EEZ will be closed effective from 12:01 a.m. eastern time on July 24, 2023, through December 31, 2023. During the recreational closure, the bag and possession limits for golden tilefish in or from the South Atlantic EEZ are zero. The recreational sector for golden tilefish will open again on January 1, 2024, the beginning of the 2024 fishing year and the recreational fishing season.

NMFS has also closed the longline component of the commercial sector for golden tilefish for the remainder of the 2023 fishing year (88 FR 20079, April 5, 2023). The hook-and-line component of the commercial sector is currently still open for the 2023 fishing year, and NMFS continues to monitor commercial hook-and-line landings.

Classification

NMFS issues this action pursuant to section 305(d) of the Magnuson-Stevens Act. This action is required by 50 CFR 622.193(a)(2)(i), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the recreational ACL and AM for golden tilefish has already been subject to notice and comment, and all that remains is to notify the public of the closure. Such procedures are contrary to the public interest because of the need to immediately implement this action to protect the golden tilefish stock. The recreational ACL has been reached and prior notice and opportunity for public comment would require time, potentially resulting in a harvest well in excess of the established ACL.

For the reasons just stated, there is also good cause to waive the 30-day delay in the effectiveness of this action under 5 U.S.C. 553(d)(3).

Authority: 16 U.S.C. 1801 et seq.

Dated: July 12, 2023.
Kelly Denit,
Director, Office of Sustainable Fisheries, National Marine Fisheries Service.

[FR Doc. 2023-15093 Filed 7-12-23; 4:15 pm]

BILLING CODE 3510-22-M